DEPARTMENT OF JUSTICE

Notice of Lodging of Proposed Consent Decree Under the Comprehensive Environmental Response, Compensation, and Liability Act

On July 7, 2023, the Department of Justice lodged a proposed consent decree with the United States District Court for the District of Massachusetts in United States and Commonwealth of Massachusetts v. Massachusetts Electric Company, d/b/a National Grid, 1:23-cv-11524 (D. MA).

The United States, together with the Commonwealth of Massachusetts, filed a complaint under the Comprehensive Environmental Response, Compensation, and Liability Act (“Act”) against Massachusetts Electric Company, d/b/a National Grid (“National Grid”), for recovery of damages for injury to, loss of, or destruction of natural resources under the trusteeship of National Oceanic and Atmospheric Administration (“NOAA”), the United States Department of the Interior (“DOI”), through the United States Fish and Wildlife Service (“FWS”), and Massachusetts Department of Environmental Protection (“MassDEP”). In the complaint, the United States seeks damages relating to the releases of hazardous substances to soils, sediments, groundwater, and surface water from the former Gloucester Gas Light Company Manufactured Gas Plant, located in Gloucester, Massachusetts. The proposed consent decree provides $5.38 million to the federal and state natural resources trustees to undertake habitat restoration work in the coastal area in the vicinity of the National Grid's plant.

The publication of this notice opens a period for public comment on the consent decree. Comments should be addressed to the Assistant Attorney General, Environment and Natural Resources Division, and should refer to United States and Commonwealth of Massachusetts v. Massachusetts Electric Company, d/b/a National Grid, D.J. Ref. No. 90-11-3-11881. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon email request to pubcomment-ees.enrd@usdoj.gov.

Henry S. Friedman,
Assistant Section Chief, Environmental Enforcement Section, Environment and Natural Resources Division.

[FR Doc. 2023-14798 Filed 7-11-23; 8:45 am]

BILLING CODE 4410-15-P